DEPARTMENT OF COMMERCE

International Trade Administration

[A-552-802]

Certain Frozen Warmwater Shrimp From the Socialist Republic of Vietnam: Notice of Final Results of Antidumping Duty Changed Circumstances Review

AGENCY: Enforcement and Compliance, International Trade Administration, Department of Commerce.

SUMMARY: On July 8, 2021, the Department of Commerce (Commerce) published the initiation and preliminary results of a changed circumstances review (CCR) of the antidumping duty (AD) order on certain frozen warmwater shrimp (shrimp) from the Socialist Republic of Vietnam (Vietnam). For these final results, Commerce continues to find that Camimex Group Joint Stock Company is the successor-in-interest (SII) to Camau Frozen Seafood Processing Import Export Corporation, in the context of the AD order on shrimp from Vietnam.

DATES: Applicable August 26, 2021.

FOR FURTHER INFORMATION CONTACT: Irene Gorelik or Samuel Glickstein, AD/CVD Operations, Office VIII, Enforcement and Compliance, International Trade Administration, Department of Commerce, 1401 Constitution Avenue NW, Washington, DC 20230; telephone: (202) 482-6905 or (202) 482-5307, respectively.

SUPPLEMENTARY INFORMATION:

Background

On June 2, 2021, Camimex Group Joint Stock Company requested that, pursuant to section 751(b) of the Tariff Act of 1930, as amended (the Act), 19 CFR 351.216, and 19 CFR 351.221(c)(3), Commerce conduct a CCR of the Order ¹ to confirm that Camimex Group Joint Stock Company is the SII to Camau Frozen Seafood Processing Import Export Corporation and, accordingly, to assign it the cash deposit rate of its predecessor.² In its request, Camimex Group Joint Stock Company stated that it undertook a legal name change from Camau Frozen Seafood Processing Import Export Corporation, but the company is, otherwise, unchanged.³

¹ See Notice of Amended Final Determination of Sales at Less Than Fair Value and Antidumping Duty Order: Certain Frozen Warmwater Shrimp from the Socialist Republic of Vietnam, 70 FR 5152 (February 1, 2005) (Order).

² See Camimex Group Joint Stock Company's Letter, “Request for Changed Circumstances Review,” dated June 3, 2021. Camimex Group Joint Stock Company also requested that Commerce conduct an expedited initiation and preliminary results of the CCR, pursuant to 19 CFR 351.221(c)(3)(ii).

³ Id. at 4-10.

On July 8, 2021, Commerce initiated a CCR and preliminarily determined that Camimex Group Joint Stock Company is the SII to Camau Frozen Seafood Processing Import Export Corporation.⁴ In the CCR Initiation and Prelim, we provided all interested parties with an opportunity to comment.⁵ However, we received no comments.

⁴ See Certain Frozen Warmwater Shrimp from the Socialist Republic of Vietnam: Notice of Initiation and Preliminary Results of Antidumping Duty Changed Circumstances Review, 86 FR 36091 (July 8, 2021) (CCR Initiation and Prelim).

⁵ See CCR Initiation and Prelim, 86 FR at 36092.

Scope of the Order

The merchandise subject to the Order is certain frozen warmwater shrimp. The product is currently classified under the following Harmonized Tariff Schedule of the United States (HTSUS) item numbers: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.10.30, and 1605.29.10.10.⁶ Although the HTSUS numbers are provided for convenience and for customs purposes, the written product description, provided in the Appendix, remains dispositive.

⁶ On July 6, 2021, Commerce revised the HTS subheadings within the scope of the Order based on a request received from U.S. Customs and Border Protection (CBP). See Memorandum, “Request from Customs and Border Protection to Update the ACE AD Case Reference File,” dated July 6, 2021 (ACCESS Barcode 4139823-01).

Final Results of Changed Circumstances Review

For the reasons stated in the CCR Initiation and Prelim, Commerce continues to find that Camimex Group Joint Stock Company is the SII to Camau Frozen Seafood Processing Import Export Corporation. As a result of this determination and consistent with established practice, we find that Camimex Group Joint Stock Company should receive the cash deposit rate previously assigned to Camau Frozen Seafood Processing Import Export Corporation. Consequently, we will instruct CBP to suspend liquidation of all shipments of subject merchandise exported by Camimex Group Joint Stock Company, and entered or withdrawn from warehouse, for consumption on or after the publication date of this notice in the Federal Register at the cash deposit rate in effect for Camau Frozen Seafood Processing Import Export Corporation. This cash deposit requirement shall remain in effect until further notice.

Notification to Interested Parties

We are issuing this determination and publishing these final results and notice in accordance with sections 751(b)(1) and 777(i)(1) and (2) of the Act, and 19 CFR 351.216(e), 351.221(b), and 351.221(c)(3).

Dated: August 20, 2021.
Ryan Majerus,
Deputy Assistant Secretary for Policy and Negotiations.

Appendix—Scope of the Order

The scope of the order includes certain frozen warmwater shrimp and prawns, whether wildcaught (ocean harvested) or farm-raised (produced by aquaculture), head-on or head-off, shell-on or peeled, tail-on or tail-off,⁷ deveined or not deveined, cooked or raw, or otherwise processed in frozen form.

⁷ “Tails” in this context means the tail fan which includes the telson and the uropods.

The frozen warmwater shrimp and prawn products included in the scope of the order, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations, which are not “prepared meals,” that contain more than 20 percent by weight of shrimp or prawn are also included in the scope of the order. Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); and (7) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried.

The products covered by this order are currently classified under the following HTS subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.10.30, and 1605.29.10.10. These HTS subheadings are provided for convenience and for customs purposes only and are not dispositive, but rather the written description of the scope of this order is dispositive.⁸

⁸ On April 26, 2011, Commerce amended the order to include dusted shrimp, pursuant to the U.S. Court of International Trade (CIT) decision in Ad Hoc Shrimp Trade Action Committee v. United States, 703 F. Supp. 2d 1330 (CIT 2010) and the U.S. International Trade Commission (USITC) determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Ad Hoc Shrimp Trade Action Committee v. United States, 703 F. Supp. 2d 1330 (CIT 2010); and Frozen Warmwater Shrimp from Brazil, China, India, Thailand, and Vietnam (Investigation Nos. 731-TA-1063, 1064, 1066-1068 (Review), USITC Publication 4221, March 2011.

[FR Doc. 2021-18368 Filed 8-25-21; 8:45 am]

BILLING CODE 3510-DS-P